DEPARTMENT OF THE INTERIOR

Bureau of Land Management

[WY-920-1430-EU, WYW148816]

Intent to Prepare an Environmental Impact Statement and Notice of Scoping on Proposed Exchange, WY

AGENCY: Bureau of Land Management, Interior.

ACTION: Notice of Intent to Prepare an Environmental Impact Statement and Notice of Scoping on a proposal from The Pittsburg and Midway Coal Mining Co. to exchange privately owned lands and minerals in WY for Federal coal in the decertified Powder River Federal Coal Production Region.

SUMMARY: BLM received a proposal to exchange Federal coal in the WY Powder River Basin (PRB) for properties owned by Pittsburg & Midway Coal Mining Co. (P&M) on February 4, 1999. P&M is a wholly owned subsidiary of Chevron Corporation. The Federal coal P&M proposes to acquire is located in northern Sheridan County, WY. The lands and minerals P&M proposes to offer in exchange for the coal are located in Carbon, Lincoln, and Sheridan counties, WY. A portion of the lands being offered in Lincoln County are located within the Bridger-Teton National Forest (BTNF), and would be administered by the U. S. Forest Service (FS) if an exchange is completed. The exchange would be processed under the provisions of 43 CFR 2200. The Powder River Regional Coal Team (RCT) reviewed this exchange proposal at a public meeting held on October 27, 1999, in Gillette, WY. BLM has determined that the requirements of NEPA would be best served by preparing an environmental impact statement (EIS) for this exchange proposal.

DATES: As part of the public scoping process, public scoping meetings are scheduled at the following times and places:

7 p.m., March 5, 2001, LaBarge Town Hall, LaBarge, WY

7 p.m., March 6, 2001, BLM Rawlins Field Office, 1300 N. Third Street, Rawlins, WY

7 p.m., March 7, 2001, Sheridan Holiday Inn, 1809 Sugarland Drive, Sheridan, WY

If you have concerns or issues that you believe the BLM should address in processing this exchange proposal, you can express them verbally at the scoping meetings; or you can mail, e-mail or fax written comments to BLM at the address given below by March 30, 2001.

ADDRESSES: Please address questions, comments or concerns to the BLM Casper Field Office, attn: Nancy Doelger, 2987 Prospector Drive, Casper, WY 82604, fax: 307-261-7587, or e-mail comments to the attention of Nancy Doelger at casper_wymail@blm.gov.

FOR FURTHER INFORMATION CONTACT: Nancy Doelger or Mike Karbs at the above address, or phone: 307-261-7600, or Jim Paugh at the BLM Wyoming State Office (921), P.O. Box 1828, Cheyenne, Wyoming 82003-1828, 307-775-6306.

SUPPLEMENTARY INFORMATION: On February 4, 1999, BLM received a proposal from P&M to exchange properties P&M owns in WY, including all minerals owned by P&M under these properties, for Federal coal in Sheridan County, WY. P&M is offering to exchange the following lands:

Lincoln County, Wyoming:

T. 26 N., R. 115 W., 6th PM, Wyoming tracts 49, 57, and 71;

T. 26 N., R. 116 W., 6th PM, Wyoming tracts 39, 41, and 42;

T. 26 N., R. 117 W., 6th PM, Wyoming tracts 37 through 43;

T. 27 N., R. 117 W., 6th PM, Wyoming tracts 37 through 42.

Carbon County, Wyoming:

T. 16 N., R. 90 W., 6th PM, Wyoming tract 46;

section 6, lots 20, 23, 24, 27, NE¼SW¼;

section 17, lot 17, SW¼SW¼;

section 18, NE¼SE¼;.

T. 16 N., R. 91 W., 6th PM, Wyoming

section 12, NE¼NE¼, SW¼NE¼, SW¼SW¼, E½SW¼, W½SE¼;

section 13, W½NW¼, SE¼NW¼, NW¼SW¼;

section 14, SE¼NE¼, NE¼SE¼, S½SE¼;

section 22, SE¼SE¼, SE¼SE¼SW¼SE¼;

section 23, W½NE¼, S½NW¼, N½SW¼, SW¼SW¼.

Sheridan County, Wyoming:

T. 57 N., R. 84 W., 6th PM, Wyoming

section 1, S½NE¼, SE¼NW¼, N½SW¼, SW¼SW¼;

section 2, lots 2, 3, S½N½, S½;

section 3, lots 3, 4, S½N½, N½S½, SE¼SE¼;

section 4, lots 1 through 4, S½NE¼, SE¼NW¼, N½SE¼.

Total Offered Lands: Approximately 6068 acres.

P&M would offer the above lands to BLM in exchange for all or a portion of the Federal coal underlying the following lands in Sheridan County:

T. 58 N., R. 84 W., 6th PM, Wyoming

section 15, lot 1;

section 20, SE¼;

section 21, E½NE¼, S½;

section 22, NW¼, W½SW¼;

section 23, lots 3,4;

section 27, W½NW¼,W½SW¼;

section 28, all;

section 29, NE¼, NE¼SE¼;

section 33, N½NE¼;

section 34, SW¼NE¼, NW¼NW¼.

Total Selected Lands: Approximately 2045 acres.

The value of the coal to be exchanged will be equal to the value of the offered private lands. The amount of coal to be included in the exchange will be dependent on the fair market value of the coal as determined by BLM. The surface of the above Federal coal lands being considered for exchange is privately owned.

The EIS will consider the impacts of BLM and FS acquisition of the lands being offered for exchange as well as the impacts of mining the coal which P&M proposes to acquire in Sheridan County. There is not currently a mine in this area.

The lands P&M is offering for exchange in Lincoln County, WY, include lands within the BTNF which represent most of the remaining parcels of private land within the Kemmerer Ranger District. Acquisition of these lands is a high priority for the Forest Service. The FS will be a cooperating agency on the EIS.

The Office of Surface Mining Reclamation and Enforcement (OSM) will be a cooperating agency in the preparation of the EIS. The Surface Mining Control and Reclamation Act (SMCRA) gives OSM primary responsibility to administer programs that regulate surface coal mining operations and the surface effects of underground coal mining operations. Pursuant to Section 503 of SMCRA, the Secretary of the Interior approved a permanent program in 1980, which authorized the Wyoming Department of Environmental Quality (DEQ) to regulate surface coal mining operations and surface effects of underground mining on non-federal lands within the state of WY. If an exchange is completed, P&M would be required to prepare and obtain DEQ approval of a permit to conduct coal mining operations before any mining could occur.

The major issues related to mining coal that have been identified by BLM in evaluating recent applications to lease and mine Federal coal in other areas of the Wyoming PRB are related to potential site-specific and cumulative impacts to air quality, groundwater, and wildlife. If you have specific concerns about these issues, or have other concerns or issues that BLM should consider in processing this proposed exchange, please address them in writing to the above individuals or state them verbally at the public scoping meetings scheduled at the times and locations shown above. BLM will accept written comments at the address shown above through March 30, 2001.

Comments, including names and street addresses of respondents, will be available for public review at the address listed above during regular business hours (7:45 a.m.-4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: February 1, 2001.
Jim Paugh,
Realty Officer, Lands and Minerals.

[FR Doc. 01-3748 Filed 2-13-01; 8:45 am]

BILLING CODE 4310-22-P